DEPARTMENT OF TRANSPORTATION

Federal Aviation Administration

14 CFR Part 39

[Docket No. FAA-2011-1318; Directorate Identifier 2010-NM-274-AD]

RIN 2120-AA64

Airworthiness Directives; 328 Support Services GmbH Airplanes

AGENCY: Federal Aviation Administration (FAA), DOT.

ACTION: Notice of proposed rulemaking (NPRM).

SUMMARY: We propose to adopt a new airworthiness directive (AD) for all 328 Support Services GmbH (Type Certificate previously held by AvCraft Aerospace GmbH; Fairchild Dornier GmbH; Dornier Luftfahrt GmbH) Model 328-100 and -300 airplanes that would supersede an existing AD. This proposed AD results from mandatory continuing airworthiness information (MCAI) originated by an aviation authority of another country to identify and correct an unsafe condition on an aviation product. The MCAI describes the unsafe condition as:

An incident has been reported with a Dornier 328-100 aeroplane, where the right-hand (RH) power lever jammed in flight-idle position during the landing roll-out. The aeroplane was stopped by excessive braking.

The reason for the jamming was that the cockpit door locking device * * * had fallen off the RH cockpit wall, blocking the RH power/condition lever pulley/cable cluster below the door. * * *

This condition, if not corrected, could cause interference with the engine and/or flight control cables, possibly resulting in reduced control of the aeroplane.

* * * * *

The proposed AD would require actions that are intended to address the unsafe condition described in the MCAI.

DATES: We must receive comments on this proposed AD by January 26, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact 328 Support Services GmbH, Global Support Center, P.O. Box 1252, D-82231 Wessling, Federal Republic of Germany; telephone +49 8153 88111 6666; fax +49 8153 88111 6565; email gsc.op@328support.de; Internet http://www.328support.de. You may review copies of the referenced service information at the FAA, Transport Airplane Directorate, 1601 Lind Avenue SW., Renton, Washington. For information on the availability of this material at the FAA, call (425) 227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2011-1318; Directorate Identifier 2010-NM-274-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On September 30, 2009, we issued AD 2009-21-06, Amendment 39-16043 (74 FR 53151, October 16, 2009). That AD required actions intended to address an unsafe condition on 328 Support Services GmbH (Type Certificate Previously Held by AvCraft Aerospace GmbH; Fairchild Dornier GmbH; Dornier Luftfahrt GmbH) Model 328-100 and -300 airplanes.

Since we issued AD 2009-21-06, Amendment 39-16043 (74 FR 53151, October 16, 2009), the manufacturer has provided two options to fix the locking device, depending on airplane configuration: Installing an improved locking device for the cockpit door, or installing a gap filler between the cockpit door and the cockpit wall. We have determined these actions are necessary to address the identified unsafe condition. The European Aviation Safety Agency (EASA), which is the Technical Agent for the Member States of the European Community, has issued EASA Airworthiness Directive 2010-0169, dated August 13, 2010 (referred to after this as “the MCAI”), to correct an unsafe condition for the specified products. The MCAI states:

An incident has been reported with a Dornier 328-100 aeroplane, where the right-hand (RH) power lever jammed in flight-idle position during the landing roll-out. The aeroplane was stopped by excessive braking.

The reason for the jamming was that the cockpit door locking device Part Number (P/N) 001A252A3914012 had fallen off the RH cockpit wall, blocking the RH power/condition lever pulley/cable cluster below the door. Although the affected aeroplane had been modified, the technical investigation showed that a loose Cockpit Door Locking device could also occur on 328-100 and 328-300 aeroplanes with a standard installation.

This condition, if not corrected, could cause interference with the engine and/or flight control cables, possibly resulting in reduced control of the aeroplane.

To address that unsafe condition, EASA issued AD 2009-0082 [which corresponds to FAA AD 2009-21-06, Amendment 39-16043 (74 FR 53151, October 16, 2009)] as an interim solution, to require a one-time inspection of the cockpit door locking device and the surrounding area and the reporting of all findings to the TC [type certificate] holder.

Since that AD was issued, the TC holder has developed an improved cockpit door locking device, P/N 001A252A3914016. Consequently, this [EASA] AD retains the requirements of [EASA] AD 2009-0082 [FAA AD 2009-21-06, Amendment 39-16043 (74 FR 53151, October 16, 2009)], which is superseded, and requires the replacement of the current P/N 001A252A3914012 with new designed P/N 001A252A3914016 cockpit door locking device, or the removal of the cockpit door locking device P/N 001A252A3914012 and the installation of a gap filler, as applicable to aeroplane configuration.

The required actions include performing operational tests, and repair if necessary. You may obtain further information by examining the MCAI in the AD docket.

Relevant Service Information

328 Support Services has issued the following service bulletins:

• SB-328-25-492, dated March 18, 2010 (for Model 328-100 airplanes);

• SB-328J-25-244, dated March 18, 2010 (for Model 328-300 airplanes);

• SB-328-25-491, dated March 18, 2010 (for Model 328-100 airplanes); and

• SB-328J-25-243, dated March 18, 2010 (for Model 328-300 airplanes).

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 59 products of U.S. registry.

The actions that are required by AD 2009-21-06, Amendment 39-16043 (74 FR 53151, October 16, 2009), and retained in this proposed AD take about 1 work-hour per product, at an average labor rate of $85 per work hour. Based on these figures, the estimated cost of the currently required actions is $85 per product.

We estimate that it would take 6 work-hours per product, depending on airplane configuration, to comply with the new basic requirements of this proposed AD. The average labor rate is $85 per work-hour. Required parts would cost $2,315 per product. Based on these figures, we estimate the cost of the proposed AD on U.S. operators to be $166,675, or $2,825 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-16043 (74 FR 53151, October 16, 2009) and adding the following new AD:

328 Support Services GmbH (Type Certificate Previously Held by AvCraft Aerospace GmbH; Fairchild Dornier GmbH; Dornier Luftfahrt GmbH): Docket No. FAA-2011-1318; Directorate Identifier 2010-NM-274-AD.

Comments Due Date

(a) We must receive comments by January 26, 2012.

Affected ADs

(b) This AD supersedes AD 2009-21-06, Amendment 39-16043 (74 FR 53151, October 16, 2009).

Applicability

(c) This AD applies to 328 Support Services GmbH (Type Certificate previously held by AvCraft Aerospace GmbH; Fairchild Dornier GmbH; Dornier Luftfahrt GmbH) Model 328-100 and -300 airplanes; certificated in any category; all serial numbers.

Subject

(d) Air Transport Association (ATA) of America Code 25: Equipment/Furnishings.

Reason

(e) The mandatory continuing airworthiness information (MCAI) states:

An incident has been reported with a Dornier 328-100 aeroplane, where the right-hand (RH) power lever jammed in flight-idle position during the landing roll-out. The aeroplane was stopped by excessive braking.

The reason for the jamming was that the cockpit door locking device * * * had fallen off the RH cockpit wall, blocking the RH power/condition lever pulley/cable cluster below the door. * * *

This condition, if not corrected, could cause interference with the engine and/or flight control cables, possibly resulting in reduced control of the aeroplane.

* * * * *

Compliance

(f) You are responsible for having the actions required by this AD performed within the compliance times specified, unless the actions have already been done.

Restatement of Certain Requirements of AD 2009-21-06, Amendment 39-16043 (74 FR 53151, October 16, 2009)

(g) Within 3 months after November 20, 2009 (the effective date of AD 2009-21-06, Amendment 39-16043 (74 FR 53151, October 16, 2009)), do a detailed visual inspection of the cockpit door locking device and the surrounding area for proper installation, in accordance with the Accomplishment Instructions of 328 Support Services Service Bulletin SB-328-25-485 or SB-328J-25-235, both dated January 28, 2009, as applicable.

(h) If any discrepancy is found during the inspection specified in paragraph (g) of this AD, before further flight, do the corrective action, in accordance with the Accomplishment Instructions of 328 Support Services Service Bulletin SB-328-25-485 or SB-328J-25-235, both dated January 28, 2009, as applicable.

New Requirements of This AD

(i) Within 4,000 flight hours or 24 months after the effective date of this AD, whichever occurs first, do the applicable actions specified in paragraph (i)(1) or (i)(2) of this AD.

(1) For airplanes on which a door locking device with Option 521K010 is installed: Remove the locking device of the cockpit door, part number (P/N) 001A252A3914012, install the gap filler parts, and do operational tests, in accordance with the Accomplishment Instructions of 328 Support Services Service Bulletin SB-328-25-492, dated March 18, 2010 (for Model 328-100 airplanes); or 328 Support Services Service Bulletin SB-328J-25-244, dated March 18, 2010 (for Model 328-300 airplanes).

(2) For airplanes on which a door locking device with Option 521K010 is not installed: Replace the locking device of the cockpit door, P/N 001A252A3914012, with a new locking device, P/N 001A252A3914016, and do operational tests, in accordance with the Accomplishment Instructions of 328 Support Services Service Bulletin SB-328-25-491, dated March 18, 2010 (for Model 328-100 airplanes); or 328 Support Services Service Bulletin SB-328J-25-243, dated March 18, 2010 (for Model 328-300 airplanes).

(j) If any operational test fails during the actions specified in paragraph (i)(1) or (i)(2) of this AD, before further flight, repair in accordance with a method approved by the Manager, International Branch, ANM-116, Transport Airplane Directorate, FAA, or EASA (or its delegated agent).

(k) As the effective date of this AD, no person may install a locking device of the cockpit door having P/N 001A252A3914012 on any airplane.

FAA AD Differences

Note 1: This AD differs from the MCAI and/or service information as follows:

(1) Although the MCAI specifies that after doing the modification, installing the affected part is prohibited, this AD specifies that as of the effective date of this AD, installing the affected part is prohibited.

(2) Although the MCAI tells you to submit information to the manufacturer, this AD specifies that such submittal is not required.

Other FAA AD Provisions

(l) The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, Washington 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(m) Refer to MCAI European Aviation Safety Agency Airworthiness Directive 2010-0169, dated August 13, 2010; and the service bulletins specified in paragraphs (m)(1) through (m)(5) of this AD; for related information.

(1) 328 Support Services Service Bulletin SB-328-25-485, dated January 28, 2009.

(2) 328 Support Services Service Bulletin SB-328J-25-235, dated January 28, 2009.

(3) 328 Support Services Service Bulletin SB-328-25-491, dated March 18, 2010.

(5) 328 Support Services Service Bulletin SB-328J-25-243, dated March 18, 2010.

(4) 328 Support Services Service Bulletin SB-328-25-492, dated March 18, 2010.

(5) 328 Support Services Service Bulletin SB-328J-25-244, dated March 18, 2010.

Issued in Renton, Washington, on December 5, 2011.
Ali Bahrami,
Manager, Transport Airplane Directorate, Aircraft Certification Service.

[FR Doc. 2011-31739 Filed 12-9-11; 8:45 am]

BILLING CODE 4910-13-P